ENVIRONMENTAL PROTECTION AGENCY

[ER-FRL-9049-5]

Environmental Impact Statements; Notice of Availability

Weekly receipt of Environmental Impact Statements filed February 10, 2020 10 a.m. EST through February 17, 2020 10 a.m. EST pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200039, Final, DOE, OR, ADOPTION—Jordan Cove Energy Project, Contact: Brian Lavoie 202-586-2459.

The Department of Energy (DOE) has adopted the Federal Energy Regulatory Commission's Final EIS No. 20190276, filed 11/15/2019 with the EPA. DOE was a cooperating agency on this project. Therefore, recirculation of the document is not necessary under Section 1506.3(c) of the CEQ regulations.

EIS No. 20200040, Final Supplement, DOE, LA, ADOPTION—Magnolia LNG Production Capacity Amendment, Contact: Brian Lavoie 202-586-2459.

The Department of Energy (DOE) has adopted the Federal Energy Regulatory Commission's Final EIS No. 20200018, filed 1/24/2020 with the EPA. DOE was a cooperating agency on this project. Therefore, recirculation of the document is not necessary under Section 1506.3(c) of the CEQ regulations.

EIS No. 20200041, Final, FERC, NC, Southgate Project, Review Period Ends: 03/23/2020, Contact: Office of External Affairs 866-208-3372.

EIS No. 20200042, Draft Supplement, BLM, ID, Idaho Greater Sage-Grouse 2020 Draft Supplemental EIS, Comment Period Ends: 04/06/2020, Contact: Jon Beck 208-373-3841.

EIS No. 20200043, Final, USACE, NY, Fire Island Inlet to Montauk Point Reformulation Study, Review Period Ends: 03/23/2020, Contact: Robert J Smith 917-790-8729.

EIS No. 20200044, Final, BLM, WY, Moneta Divide Natural Gas and Oil Development Project, Review Period Ends: 03/23/2020, Contact: Holly Elliot 307-347-5100.

EIS No. 20200045, Draft Supplement, BLM, CO, Colorado Greater Sage-Grouse 2020 Draft Supplemental EIS, Comment Period Ends: 04/06/2020, Contact: Jon Beck 208-373-3841.

EIS No. 20200046, Draft Supplement, BLM, NV, Nevada/California Greater Sage-Grouse 2020 Draft Supplemental EIS, Comment Period Ends: 04/06/2020, Contact: Jon Beck 208-373-3841.

EIS No. 20200047, Draft Supplement, BLM, OR, Oregon Greater Sage-Grouse 2020 Draft Supplemental EIS, Comment Period Ends: 04/06/2020, Contact: Jon Beck 208-373-3841.

EIS No. 20200048, Draft Supplement, BLM, UT, Utah Greater Sage-Grouse 2020 Draft Supplemental EIS, Comment Period Ends: 04/06/2020, Contact: Jon Beck 208-373-3841.

EIS No. 20200049, Draft Supplement, BLM, WY, Wyoming Greater Sage-Grouse 2020 Draft Supplemental EIS, Comment Period Ends: 04/06/2020, Contact: Jon Beck 208-373-3841.

Dated: February 18, 2020.
Cindy S. Barger,
Director, NEPA Compliance Division, Office of Federal Activities.

[FR Doc. 2020-03495 Filed 2-20-20; 8:45 am]

BILLING CODE 6560-50-P